DEPARTMENT OF ENERGY

Federal Energy Regulatory Commission

Combined Notice of Filings #1

Take notice that the Commission received the following exempt wholesale generator filings:

Docket Numbers: EG15-17-000.

Applicants: Kay Wind, LLC.

Description: Self-Certification of EG or FC of Kay Wind, LLC.

Filed Date: 11/19/14.

Accession Number: 20141119-5086.

Comments Due: 5 p.m. ET 12/10/14.

Take notice that the Commission received the following electric rate filings:

Docket Numbers: ER13-75-008.

Applicants: Public Service Company of Colorado.

Description: Compliance filing per 35: 2014-11-19_Att-R PSCo-Exhibit 1 Amend Filing to be effective 1/1/2015.

Filed Date: 11/19/14.

Accession Number: 20141119-5050.

Comments Due: 5 p.m. ET 12/10/14.

Docket Numbers: ER13-82-006.

Applicants: Arizona Public Service Company.

Description: Compliance filing per 35: Errata to Order No. 1000 Compliance Filing to be effective 1/1/2015.

Filed Date: 11/19/14.

Accession Number: 20141119-5092.

Comments Due: 5 p.m. ET 12/10/14.

Docket Numbers: ER13-311-002.

Applicants: MP2 Energy IL LLC.

Description: Notice of Change in Status of the MP2 Energy IL LLC.

Filed Date: 10/28/14.

Accession Number: 20141028-5018.

Comments Due: 5 p.m. ET 12/3/14.

Docket Numbers: ER14-2685-000.

Applicants: Midcontinent Independent System Operator, Inc.

Description: Report Filing: 2014-11-19_SA 2687 Response METC-New Covert FCA (T94) to be effective N/A.

Filed Date: 11/19/14.

Accession Number: 20141119-5105.

Comments Due: 5 p.m. ET 12/10/14.

.

Docket Numbers: ER15-193-001.

Applicants: Midcontinent Independent System Operator, Inc.

Description: Tariff Amendment per 35.17(b): 2014-11-19_ATC D-T Update Batch 3 Amendment to be effective 12/27/2014.

Filed Date: 11/19/14.

Accession Number: 20141119-5131.

Comments Due: 5 p.m. ET 12/10/14.

Docket Numbers: ER15-201-001.

Applicants: Pacific Gas and Electric Company.

Description: Tariff Amendment per 35.17(b): CCSF IA—47th Quarterly Filing Errata to be effective 9/30/2014.

Filed Date: 11/18/14.

Accession Number: 20141118-5211.

Comments Due: 5 p.m. ET 12/9/14.

Docket Numbers: ER15-436-000.

Applicants: Cedar Brakes I, L.L.C.

Description: § 205(d) rate filing per 35.13(a)(2)(iii): Revisions to market-based rate schedule to be effective 11/19/2014.

Filed Date: 11/18/14.

Accession Number: 20141118-5174.

Comments Due: 5 p.m. ET 12/9/14.

Docket Numbers: ER15-437-000.

Applicants: BE Alabama LLC.

Description: § 205(d) rate filing per 35.13(a)(2)(iii): Revisions to market-based rate schedule to be effective 11/19/2014.

Filed Date: 11/18/14.

Accession Number: 20141118-5175.

Comments Due: 5 p.m. ET 12/9/14.

Docket Numbers: ER15-438-000.

Applicants: Florida Power Development LLC.

Description: § 205(d) rate filing per 35.13(a)(2)(iii): Revisions to market-based rate schedule to be effective 11/19/2014.

Filed Date: 11/18/14.

Accession Number: 20141118-5177.

Comments Due: 5 p.m. ET 12/9/14.

Docket Numbers: ER15-439-000.

Applicants: J.P. Morgan Ventures Energy Corporation.

Description: § 205(d) rate filing per 35.13(a)(2)(iii): Revisions to market-based rate schedules to be effective 11/19/2014.

Filed Date: 11/18/14.

Accession Number: 20141118-5183.

Comments Due: 5 p.m. ET 12/9/14.

Docket Numbers: ER15-440-000.

Applicants: Utility Contract Funding, L.L.C.

Description: § 205(d) rate filing per 35.13(a)(2)(iii): Revisions to market-based rate schedule to be effective 11/19/2014.

Filed Date: 11/18/14.

Accession Number: 20141118-5184.

Comments Due: 5 p.m. ET 12/9/14.

Docket Numbers: ER15-441-000.

Applicants: Southern California Edison Company.

Description: § 205(d) rate filing per 35.13(a)(2)(iii): LGIA with Altagas Sonoran Energy Inc. to be effective 11/20/2014.

Filed Date: 11/19/14.

Accession Number: 20141119-5000.

Comments Due: 5 p.m. ET 12/10/14.

Docket Numbers: ER15-442-000.

Applicants: PJM Interconnection, L.L.C.

Description: § 205(d) rate filing per 35.13(a)(2)(iii): Service Agreement No. 3769; Queue No. X2-025 & X4-019 to be effective 10/20/2014.

Filed Date: 11/19/14.

Accession Number: 20141119-5067.

Comments Due: 5 p.m. ET 12/10/14.

Docket Numbers: ER15-443-000.

Applicants: PacifiCorp.

Description: Compliance filing per 35: NAESB Standards Compliance Filing to be effective 2/2/2015.

Filed Date: 11/19/14.

Accession Number: 20141119-5102.

Comments Due: 5 p.m. ET 12/10/14.

Docket Numbers: ER15-444-000.

Applicants: AEP Generation Resources Inc.

Description: § 205(d) rate filing per 35.13(a)(2)(iii): Reactive Supply and Voltage Control Mitchell Amendment to be effective 1/1/2015.

Filed Date: 11/19/14.

Accession Number: 20141119-5111.

Comments Due: 5 p.m. ET 12/10/14.

Docket Numbers: ER15-445-000.

Applicants: PJM Interconnection, L.L.C.

Description: § 205(d) rate filing per 35.13(a)(2)(iii): Service Agreement No. 3345; Queue No. Z2-062 to be effective 10/20/2014.

Filed Date: 11/19/14.

Accession Number: 20141119-5115.

Comments Due: 5 p.m. ET 12/10/14.

Docket Numbers: ER15-446-000.

Applicants: PJM Interconnection, L.L.C.

Description: § 205(d) rate filing per 35.13(a)(2)(iii): Original Service Agreement No. 4030; Queue No. X1-096 to be effective 10/16/2014.

Filed Date: 11/19/14.

Accession Number: 20141119-5133.

Comments Due: 5 p.m. ET 12/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2014.
Nathaniel J. Davis, Sr.,
Deputy Secretary.

[FR Doc. 2014-28108 Filed 11-26-14; 8:45 am]

BILLING CODE 6717-01-P